DEPARTMENT OF HEALTH AND HUMAN SERVICES

National Institutes of Health

National Library of Medicine; Amended Notice of Meeting

Notice is hereby given of a change in the meeting of the National Library of Medicine Board of Scientific Counselors, November 7, 2024, 11:00 a.m. to 2:30 p.m., which was published in the Federal Register on July 15, 2024, 89 FR 135, Page Number 57422.

This notice is being amended to announce that the meeting date will be changed from November 7, 2024, to November 6, 2024. The meeting will be virtual.

Dated: August 13, 2024.
Miguelina Perez,
Program Analyst, Office of Federal Advisory Committee Policy.

[FR Doc. 2024-18489 Filed 8-16-24; 8:45 am]

BILLING CODE 4140-01-P